DEPARTMENT OF ENERGY

Federal Energy Regulatory Commission

[Project No. 2628-065]

Alabama Power Company; Notice of Application Tendered for Filing With the Commission and Establishing Procedural Schedule for Licensing and Deadline for Submission of Final Amendments

Take notice that the following hydroelectric application has been filed with the Commission and is available for public inspection.

a. Type of Application: New Major License.

b. Project No.: 2628-065.

c. Date Filed: November 23, 2021.

d. Applicant: Alabama Power Company (Alabama Power).

e. Name of Project: R.L. Harris Hydroelectric Project (Harris Project).

f. Location: The Harris Project is located on the Tallapoosa River near the City of Lineville in Randolph, Clay, and Cleburne Counties, Alabama. The Harris Project also includes land within the James D. Martin-Skyline Wildlife Management Area located approximately 110 miles north of Harris Reservoir in Jackson County, Alabama. The project occupies 4.90 acres of federal land administered by the Bureau of Land Management.

g. Filed Pursuant to: Federal Power Act, 16 U.S.C. 791(a)-825(r).

h. Applicant Contact: Angie Anderegg, Harris Relicensing Project Manager, Alabama Power Company; 600 North 18th Street, P.O. Box 2641, Birmingham, AL 35203-8180; (205) 257-2251, or email at arsegars@southernco.com.

i. FERC Contact: Sarah Salazar at (202) 502-6863, or email at sarah.salazar@ferc.gov.

j. This application is not ready for environmental analysis at this time.

k. The Harris Project consists of: (1) The 29-mile-long, 9,870-acre Harris Lake at a normal full pool elevation of 793 feet mean sea level (msl); (2) a 151.5-foot-high concrete dam; (3) a 310-foot-long gated spillway with five 40.5-feet-high by 40-feet-wide radial gates for passing flood flows, and one radial trash gate; (4) a variable level powerhouse intake, integral with the dam, which can draw water from lake elevations between 746 feet and 764 feet msl; (5) a 186-foot-long, 150-foot-high concrete powerhouse, integral with the dam, housing two vertical Francis turbines with a maximum hydraulic capacity of 8,000 cubic feet per second (cfs) and a rated total installed capacity of 135 megawatts (MW); (6) two 115 kilovolt transmission lines, which extend 1.5 miles from the dam to the Crooked Creek Transmission sub-station; and (7) appurtenant facilities.

Alabama Power proposes to install, operate, and maintain a Francis-type minimum flow unit to provide a continuous minimum flow of approximately 300 cfs in the Tallapoosa River downstream from Harris Dam. Based on preliminary design, the proposed minimum flow unit would have a generating capacity of about 2.5 MW.

The Harris Project is a peaking facility that generates about 151,878 megawatt-hours of electricity annually. Alabama Power operates the project to target lake surface elevations as guided by the project's operating curve. In addition, the U.S. Army Corps of Engineers' Alabama-Coosa-Tallapoosa River Basin Water Control Manual describes flood management regulations, drought management provisions, and navigation requirements for the Harris Project.

l. A copy of the application can be viewed on the Commission's website at http://www.ferc.gov, using the “eLibrary” link. Enter the docket number, excluding the last three digits in the docket number field, to access the document. At this time, the Commission has suspended access to the Commission's Public Reference Room due to the proclamation declaring a National Emergency concerning the Novel Coronavirus Disease (COVID-19) issued on March 13, 2020. For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | December 2021.
Request Additional Information | January 2022.
Notice of Acceptance/Notice of Ready for Environmental Analysis | April 2022.

o. Final amendments to the application must be filed with the Commission no later than 30 days from the issuance date of the notice of ready for environmental analysis.

Dated: December 7, 2021.
Kimberly D. Bose,
Secretary.

[FR Doc. 2021-26898 Filed 12-10-21; 8:45 am]

BILLING CODE 6717-01-P